DEPARTMENT OF TRANSPORTATION

Federal Railroad Administration

Petition for Waiver of Compliance

In accordance with Part 211 of Title 49 Code of Federal Regulations (CFR), notice is hereby given that the Federal Railroad Administration (FRA) received a request for a temporary waiver of compliance from certain requirements of its safety standards. The individual petition is described below, including the party seeking relief, the regulatory provisions involved, the nature of the relief being requested, and the petitioner's arguments in favor of relief.

Ohio Central Railroad System

[Docket Number FRA-2006-26177]

The Ohio Central Railroad System (OCRS) has submitted a temporary waiver petition to support field testing of its processor-based train control system, identified as the OCRS Positive Train Control (OCRS PTC), pursuant to sections 211.7 and 211.51.

An informational filing, as required under Part 236, Subpart H, has also been prepared and submitted in conjunction with this waiver petition, and can be found in the same docket as this waiver petition (FRA-2006-26177).

The OCRS PTC system is designed to prevent authority limit and overspeed violations in nonsignaled Track Warrant Control territory, and to prevent equipped trains from entering, without authorization, the limits of on-track authority granted to employees.

OCRS desires to commence field testing of the OCRS PTC system in the 4th quarter of 2007, or as soon as practicable thereafter, contingent upon FRA's acceptance and approval of the informational filing and waiver petition. OCRS intends to test and develop the OCRS PTC system on its C&N Subdivision between Columbus and Newark, OH. During this initial test phase, however, OCRS does not intend to activate the OCRS PTC system's locomotive enforcement functionality.

OCRS is seeking regulatory relief for development testing and demonstration purposes only. Specifically, OCRS is requesting regulatory relief from the following FRA requirements:

• Section 216.13 (Special Notice for Repairs—Locomotive),

• Section 217.9 (Program of Operational Tests and Inspections—Recordkeeping),

• Section 217.11 (Program of Instruction on Operating Rules—Recordkeeping, Electronic Recordkeeping),

• Part 218, Subpart D (Prohibition Against Tampering with Safety Devices),

• Section 220.7 (Railroad Communications—Penalty),

• Section 220.29 (Statement of Letters and Numbers in Radio Communications),

• Section 220.37 (Testing Radio and Wireless Communication Equipment),

• Section 220.61 (Radio Transmission of Mandatory Directives),

• Section 229.7 (Prohibited Acts),

• Section 235.5 (Changes Requiring Filing of Application),

• Section 240.127 (Criteria for Examining Skill Performance), and

• Section 240.129 (Criteria for Monitoring Operational Performance of Certified Engineers).

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g. Waiver Petition Docket Number FRA-2006-26177) and may be submitted using one of the following methods:

• Web site: http://www.regulations.gov. Follow the online instructions for submitting comments.

• Fax: 202-493-2251.

• Mail: Docket Operations Facility, U.S. Department of Transportation, 1200 New Jersey Avenue, SE., Room W12-140, Washington, DC 20590.

• Hand Delivery: 1200 New Jersey Avenue, SE., Room W12-140, Washington, DC 20590, between 9 a.m. and 5 p.m., Monday through Friday, except Federal holidays.

Communications received within 30 days of the date of this notice will be considered by FRA before final action being taken. Comments received after this date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by name of the individual submitting the comment (or signing the comment, if submitted on behalf of an association, business, labor union, etc.). You may review DOT's complete Privacy Act Statement in the Federal Register published on April 11, 2000 (Volume 65, Number 70; Pages 19477-78).

Issued in Washington, DC, on January 4, 2008.
Grady C. Cothen, Jr.,
Deputy Associate Administrator for Safety Standards and Program Development.

[FR Doc. E8-312 Filed 1-10-08; 8:45 am]

BILLING CODE 4910-06-P